SMALL BUSINESS ADMINISTRATION

[Declaration of Disaster #3348]

State of Louisiana

As a result of the President's major disaster declaration on June 11, 2001, I find that the following Parishes in the State of Louisiana constitute a disaster area due to damages caused by Tropical Storm Allison occurring on June 5, 2001 and continuing: Ascension, Assumption, East Baton Rouge, Iberville, Lafayette, Lafourche, Livingston, St. Martin, Terrebonne and Vermilion Parishes. Applications for loans for physical damage as a result of this disaster may be filed until the close of business on August 10, 2001, and for loans for economic injury until the close of business on March 11, 2002 at the address listed below or other locally announced locations: U.S. Small Business Administration, Disaster Area 3 Office, 4400 Amon Carter Blvd., Suite 102, Fort Worth, TX 76155.

In addition, applications for economic injury loans from small businesses located in the following contiguous Parishes may be filed until the specified date at the above location: Acadia, Cameron, East Feliciana, Iberia, Jefferson, Jefferson Davis, Pointe Coupee, St. Charles, St. Helena, St. James, St. John The Baptist, St. Landry, St. Mary, Tangipahoa, West Baton Rouge and West Feliciana Parishes in Louisiana.

The interest rates are:

For Physical Damage

Homeowners With Credit Available Elsewhere: 6.625%

Homeowners Without Credit Available Elsewhere: 3.312%

Businesses With Credit Available Elsewhere: 8.000%

Businesses and Non-Profit Organizations Without Credit Available Elsewhere: 4.000%

Others (Including Non-Profit Organizations) With Credit Available Elsewhere: 7.125%

For Economic Injury

Businesses and Small Agricultural Cooperatives Without Credit Available Elsewhere: 4.000%

The number assigned to this disaster for physical damage is 334808 and for economic injury the number assigned is 9L8800.

(Catalog of Federal Domestic Assistance Program Nos. 59002 and 59008)

Dated: June 12, 2001.
Herbert L. Mitchell,
Associate Administrator for Disaster Assistance.

[FR Doc. 01-15453 Filed 6-19-01; 8:45 am]

BILLING CODE 8025-01-P